DEPARTMENT OF JUSTICE

Notice of Lodging of Proposed First Amendment To Consent Decree Under The Clean Water Act (“CWA”)

On May 19, 2015, the Department of Justice lodged a proposed First Amendment to Consent Decree with the United States District Court for the District of Columbia, in the lawsuit entitled United States of America v. District of Columbia Water and Sewer Authority, et al., and the District of Columbia, Civil Action No. 1:00-cv-00183 (TFH).

The proposed First Amendment to Consent Decree, if approved, will amend and supersede the 2005 Clean Water Act Consent Decree in the same action. Under the 2005 Consent Decree, DC Water was required to implement its Long Term Control Plan (LTCP) which primarily consisted of the construction of a system of pumps and three underground storage tunnels to store excess flows pending treatment. The proposed Amendment provides for the incorporation of Green Infrastructure (GI) in the Potomac River and Rock Creek sewersheds, reduction of the size of the tunnel in the Potomac River, and construction of facilities at the Blue Plains wastewater treatment plant including a Tunnel Dewatering Pumping Station and an Enhanced Clarification Facility. Construction of the Anacostia tunnel has begun according to schedule and will not be affected by this proposed Amendment. The final compliance date of 2025 imposed in the 2005 Consent Decree would be extended to 2030.

The publication of this notice opens a period for public comment on the proposed First Amendment to Consent Decree. Comments should be addressed to the Assistant Attorney General, Environment and Natural Resources Division, and should refer to United States of America v. District of Columbia Water and Sewer Authority, et al., and the District of Columbia, Civil Action No. 1:00-cv-00183 (TFH), D.J. Ref. No. 90-5-1-1-07137. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed First Amendment to Consent Decree may be examined and downloaded at this Justice Department Web site: http://www.justice.gov/enrd/consent-decrees. We will provide a paper copy of the proposed First Amendment to Consent Decree upon written request and payment of reproduction costs. Please mail your request and payment to: Consent Decree Library, U.S. DOJ—ENRD, P.O. Box 7611, Washington, DC 20044-7611.

Please enclose a check or money order for $180.00 (25 cents per page reproduction cost) payable to the United States Treasury. For a paper copy without the exhibits and signature pages, the cost is $13.00.

Robert Brook,
Assistant Section Chief, Environmental Enforcement Section, Environment and Natural Resources Division.

[FR Doc. 2015-12588 Filed 5-22-15; 8:45 am]

BILLING CODE 4410-15-P